DEPARTMENT OF AGRICULTURE

U.S. Codex Office

Codex Alimentarius Commission: Meeting of the Codex Committee on General Principles

AGENCY: U.S. Codex Office, USDA.

ACTION: Notice of public meeting and request for comments.

SUMMARY: The U.S. Codex Office is sponsoring a public meeting on September 14, 2023, from 2:00-4:00 p.m. EDT. The objective of the public meeting is to provide information and receive public comments on agenda items and draft U.S. positions to be discussed at the 33rd Session of the Codex Committee on General Principles (CCGP) of the Codex Alimentarius Commission (CAC), which will meet in Bordeaux, France from October 2-6, 2023. The U.S. Manager for Codex Alimentarius and the Under Secretary for Trade and Foreign Agricultural Affairs recognize the importance of providing interested parties the opportunity to obtain background information on the 33rd Session of the CCGP and to address items on the agenda.

DATES: The public meeting is scheduled for September 14, 2023, from 2:00-4:00 p.m. EDT.

ADDRESSES: The public meeting will take place via Video Teleconference only. Documents related to the 33rd Session of the CCGP will be accessible via the internet at the following address: https://www.fao.org/fao-who-codexalimentarius/meetings/detail/en/?meeting=CCGP&session=33.

Mary Frances Lowe, U.S. Delegate to the 33rd Session of CCGP, invites interested U.S. parties to submit their comments electronically to the following email address: maryfrances.lowe@usda.gov.

Registration: Attendees may register to attend the public meeting at the following link: https://www.zoomgov.com/meeting/register/vJItceCtqToiHQmKptH0CtUn35LTAXhR7Hc. After registering, you will receive a confirmation email containing information about joining the meeting.

For further information about the 33rd session of CCGP, contact U.S. Delegate, Mary Frances Lowe, U.S. Manager for Codex Alimentarius, Office of the Under Secretary for Trade and Foreign Agricultural Affairs, U.S. Department of Agriculture, (202) 205-7760, maryfrances.lowe@usda.gov. You may also contact the U.S. Codex Office by email at: uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference for the Codex Committee on General Principles are:

To deal with such procedural and general matters as are referred to it by the Codex Alimentarius Commission, including:

(a) the review or endorsement of procedural provisions/texts forwarded by other subsidiary bodies for inclusion in the Procedural Manual of the Codex Alimentarius Commission; and

(b) the consideration and recommendation of other amendments to the Procedural Manual The CCGP is hosted by France. The United States attends the CCGP as a member country of Codex.

Issues To Be Discussed at the Public Meeting

The following items on the agenda for the 33rd Session of CCGP will be discussed during the public meeting:

• Matters referred by CAC and other subsidiary bodies

• Information on activities of FAO and WHO relevant to the work of CCGP

• Codex Procedural Manual: presentation of new format and observations on consistency and superseded content

• Procedural Manual: Proposed update to the Guide to the Procedure for the Amendment and Revision of Codex Standards and Related text

• Review and possible amendments to the rules of procedure on Sessions of the Commission

• Review and possible amendment of the Principles concerning the participation of international non-governmental organizations in the work of the CAC

• Other business and future work

Public Meeting

At the public meeting on September 14, 2023, draft U.S. positions on the agenda items will be described and discussed, and attendees will have the opportunity to pose questions and offer comments. Written comments may be offered at the meeting or sent to Mary Frances Lowe, U.S. Delegate to the 33rd Session of CCGP, at maryfrances.lowe@usda.gov. Written comments should state that they relate to activities of the 33rd Session of CCGP.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which

may be accessed online at https://www.usda.gov/oascr/filing-program-discrimination-complaint-usda-customer, or write a letter signed by you or your authorized representative. Send your completed complaint form or letter to USDA by mail, fax, or email.

Mail: U.S. Department of Agriculture, Director, Office of Adjudication, 1400 Independence Avenue SW, Washington, DC 20250-9410; Fax: (202) 690-7442; email: program.intake@usda.gov. Persons with disabilities who require alternative means for communication (Braille, large print, audiotape, etc.) should contact USDA's TARGET Center at (202) 720-2600 (voice and TDD).

Done at Washington, DC, on August 4, 2023.
Mary Frances Lowe,
U.S. Manager for Codex Alimentarius.

[FR Doc. 2023-17079 Filed 8-8-23; 8:45 am]

BILLING CODE P